SMALL BUSINESS ADMINISTRATION

Data Collection Available for Public Comments

AGENCY: U.S. Small Business Administration.

ACTION: 60-Day notice and request for comments.

SUMMARY: The Small Business Administration (SBA) intends to request approval from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before May 4, 2026.

ADDRESSES: Send all comments via email to, Robert Camacho, Small Business Administration, Office of Financial Assistance, at robert.camacho@sba.gov.

FOR FURTHER INFORMATION CONTACT: Robert Camacho, Small Business Administration, Office of Financial Assistance by email at robert.camacho@sba.gov, or Shauniece Carter, Interim Agency Clearance Officer by email at shauniece.carter@sba.gov.

SUPPLEMENTARY INFORMATION: The Disaster Loan Program is an SBA financing program authorized under the Small Business Act of 1953, 15 U.S.C. 636 et seq. SBA provides low-interest disaster loans to help businesses and homeowners recover from declared disasters. The information collection that is approved under OMB Control Number 3245-0018 facilitates the ongoing administration of the Disaster Loan Program. This information collection currently consists of SBA Form 5C titled Disaster Home Loan Application. SBA recognizes that this information collection needs to be revised due to regulatory changes, to align with Executive Order 14168, and to provide additional clarity for SBA Disaster Home Loan Applicants. Questions on SBA Form 5C will also be reorganized and simplified, and as needed, other questions may be added to align the paper and online versions of the application.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-0018.

(1) Title: Disaster Home Loan Application.

Description of Respondents: Disaster survivors seeking disaster loan assistance.

Form Number: SBA Form 5C.

Total Estimated Annual Responses: 101,319.

Total Estimated Annual Hour Burden: 126,649.

Shauniece Carter,
Interim Agency Clearance Officer.

[FR Doc. 2026-04309 Filed 3-3-26; 8:45 am]

BILLING CODE 8026-03-P